DEPARTMENT OF LABOR

Employment and Training Administration

[TA-W-54,101]

M.F. Maghee Log Homes, Yamhill, OR; Notice of Termination of Investigation

Pursuant to section 221 of the Trade Act of 1974, as amended, an investigation was initiated on January 29, 2004 in response to a worker petition filed by the company owner on behalf of workers at M. F. Maghee Log Homes, Yamhill, Oregon.

The petition regarding the investigation has been deemed invalid. In order to establish a valid worker group, there must be at least three full-time workers employed at some point during the period under investigation. Workers of the group subject to this investigation did not meet this threshold level of employment. Consequently, the investigation has been terminated.

Signed at Washington, DC this 2nd day of February 2004.
Richard Church,
Certifying Officer, Division of Trade Adjustment Assistance.

[FR Doc. 04-3563 Filed 2-18-04; 8:45 am]

BILLING CODE 4510-30-P